DEPARTMENT OF ENERGY

Notice of Future Release for the Administrative and Legal Requirements Document and Application Instructions for Formula Funding Under the Energy Efficiency and Conservation Block Grant Program

AGENCY: Office of State and Community Energy Programs, Department of Energy.

ACTION: Notice of availability.

SUMMARY: The Department of Energy (DOE) Office of State and Community Energy Programs (SCEP) intends to issue an Administrative and Legal Requirements Document (ALRD) for the Energy Efficiency and Conservation Block Grant (EECBG) Program, as authorized by the Infrastructure Investment and Jobs Act (IIJA) of 2021. DOE has released a Notice of Intent (NOI) through the EECBG Program website so that interested parties are aware of SCEP's intention to issue an ALRD in the near term. All the information contained in the NOI is subject to change. In addition, the NOI provides information on the EECBG Program, including draft funding allocations to states, local governments, and Indian tribes and the potential option for formula grant recipients to select a voucher in lieu of a formula grant. The NOI provides additional details on eligibility requirements and information on submission and registration requirements for formula grant recipients.

ADDRESSES: Interested persons are encouraged to review the notice of intent to issue the ALRD on the EECBG Program website, https://www.energy.gov/bil/energy-efficiency-and-conservation-block-grant-program.

FOR FURTHER INFORMATION CONTACT: Mr. Adam Guzzo, U.S. Department of Energy, Office of State and Community Energy Programs, 1000 Independence Avenue SW, Washington, DC 20585-0121. Telephone: (202) 287-1585. Email: eecbg@hq.doe.gov. Electronic communications are recommended for correspondence.

SUPPLEMENTARY INFORMATION: The EECBG Program provides federal grants to states, units of local government, and Indian tribes to assist eligible entities in implementing strategies to reduce fossil fuel emissions, to reduce total energy use, and to improve energy efficiency. The EECBG Program was authorized in title V, subtitle E of the Energy Independence and Security Act of 2007, and signed into law (Pub. L. 110-140) on December 19, 2007.

Through section 40552(b) of the IIJA, Public Law 117-58,¹ Congress authorized $550 million to the EECBG Program for Fiscal Year 2022, to remain available until expended. Of the $550 million IIJA appropriates for the EECBG Program, DOE intends to distribute $440 million in formula and competitive EECBG Program grants to eligible units of local government, states, and Indian tribes. The estimated amounts available for formula grants are as follows:

¹ https://www.govinfo.gov/content/pkg/PLAW-117publ58/pdf/PLAW-117publ58.pdf.

• $299,200,000 for formula grants to eligible units of local government

○ $149,600,000 to eligible units of local government- Alternative 1

○ $149,600,000 to eligible units of local government- Alternative 2

• $123,200,000 for formula grants to states

○ Each state (except for those noted as exempt on page 14 of the NOI) is required to pass not less than 60 percent of its allocation through to cities and counties within the state that are ineligible for direct formula grants from DOE

• $8,800,000 for formula grants to eligible Indian tribes

DOE has released a NOI through the EECBG Program website so that interested parties are aware of SCEP's intention to issue an ALRD in January 2023. All the information contained in the NOI is subject to change. Please see attachments 1a., 1b., and 1c. included with the NOI to preview the draft EECBG Program formula funding allocations for each of the 2,708 State, local, and Tribal governments that are eligible entities for EECBG Program formula grants.

Signing Authority

This document of the Department of Energy was signed on November 22, 2022, by Henry McKoy, Director of the Office of State and Community Energy Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 29, 2022.
Treena V. Garrett,
Federal Register Liaison Officer, U.S. Department of Energy.

[FR Doc. 2022-26279 Filed 12-1-22; 8:45 am]

BILLING CODE 6450-01-P